DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Associate Director for Sanctions Enforcement, Compliance & Analysis, tel.: 202-622-2490.

SUPPLEMENTARY INFORMATION:

Electronic Availability

The SDN List and additional information concerning OFAC sanctions programs are available on OFAC's website (ofac.treasury.gov).

Notice of OFAC Action(s)

On March 31, 2023, OFAC identified the following person as an entity that is owned, directly or indirectly, 50 percent or more by CARTES JARA, Horacio Manuel, a person whose property and interests in property are blocked pursuant to Executive Order (E.O.) 13818, and therefore that the property and interests in property subject to U.S. jurisdiction of the following person are blocked pursuant to E.O. 13818. On August 6, 2024, OFAC determined that the property and interests in property subject to U.S. jurisdiction of the following person are no longer blocked as identified property of CARTES JARA, Horacio Manuel.

Entity

1. TABACALERA DEL ESTE S.A. (a.k.a. TABESA), Ybyra Pyta s/n Esquina Mandarinas, Villa Conavi II, Hernandarias 7220, Paraguay; Calle Yvyra Pyta y Mandarinas, Barrio Santa Teresa, Ciudad Hernandarias, Alto Parana, Paraguay; Organization Established Date 1994; Organization Type: Wholesale of food, beverages and tobacco; Tax ID No. 80008790-9 (Paraguay) [GLOMAG] (Linked To: CARTES JARA, Horacio Manuel).

On August 6, 2024, OFAC determined that the property and interests in property subject to U.S. jurisdiction of the following person are blocked under the relevant sanctions authority listed below.

Entity

1. TABACALERA DEL ESTE S.A. (a.k.a. TABESA), Ybyra Pyta y Mandarinas, Barrio Santa Teresa, Hernandarias, Alto Parana 7220, Paraguay; website www.tabesa.com.py; Organization Established Date 24 Mar 1994; Organization Type: Wholesale of food, beverages and tobacco; Tax ID No. 80008790-9 (Paraguay) [GLOMAG] (Linked To: CARTES JARA, Horacio Manuel).

Designated pursuant to section 1(a)(iii)(A)(2) of E.O. 13818 for having materially assisted, sponsored, or provided financial, material, or technological support for, or goods or services to or in support of CARTES JARA, Horacio Manuel, a person whose property and interests in property are blocked pursuant to E.O. 13818.

Dated: August 6, 2024.
Lawrence M. Scheinert,
Acting Deputy Director, Office of Foreign Assets Control, U.S. Department of the Treasury.

[FR Doc. 2024-17814 Filed 8-9-24; 8:45 am]

BILLING CODE 4810-AL-P